DEPARTMENT OF AGRICULTURE

Forest Service

Humboldt-Toiyabe National Forest, Carson Ranger District Mt. Rose Ski Tahoe—Atoma Area Environmental Impact Statement

AGENCY: Forest Service, USDA.

ACTION: Notice of Intent to prepare an Environmental Impact Statement (EIS).

SUMMARY: The Humboldt-Toiyabe National Forest (HTNF), Carson Ranger District, will prepare an environmental impact statement to analyze the effects of a proposal from Mt. Rose Ski Tahoe (Mt. Rose) to expand its lift and terrain network. The project is located approximately 12 miles west of the intersection of Mt. Rose Highway (Nevada State Route 431) and U.S. 395, immediately north of the Mt. Rose base lodge and parking area. The project is located on both private and National Forest System (NFS) land within Washoe County, Nevada.

DATES: Comments concerning the scope of the analysis would be most helpful if received within 30 days of the publication of this notice in the Federal Register. At this time, the draft EIS is expected to be available for public review in fall/winter 2013, with a final EIS available in spring/summer 2014.

ADDRESSES: Written comments can be submitted by any of the following methods:

• Electronic comments: Select the “Comment on this Project” link on the HTNF Web site at http://www.fs.fed.us/nepa/nepa_project_exp.php?project=41487.

• U.S. Mail: Mail to Linda Crawley, Team Leader, Humboldt-Toiyabe National Forest, 1200 Franklin Way, Sparks, Nevada 89431.

• Fax to 775-355-5399. Please use a fax cover sheet and include “Mt. Rose Ski Tahoe—Atoma Area EIS” in the subject line.

• Hand Delivered: 1200 Franklin Way, Sparks, Nevada 89431, 8:00 a.m.-4:30 p.m., Monday through Friday, except federal holidays.

FOR FURTHER INFORMATION CONTACT: For further information and/or to have your name added to our mailing list, please contact Linda Crawley, Humboldt-Toiyabe National Forest, 775-355-5377, lcrawley@fs.fed.us. Individuals who use telecommunication devices for the deaf (TDD) may call the Federal Information Relay Service (FIRS) at 1-800-877-8339 between 8 a.m. and 8 p.m., Eastern Time, Monday through Friday.

SUPPLEMENTARY INFORMATION:

Purpose and Need for Action: The purpose of the proposed project is to enhance the skiing experience at Mt. Rose and meet the ever-changing expectations of the recreating public. Two primary needs have been identified: (1) Provide additional terrain at Mt. Rose that is comfortable and appropriate for low-level skiers and riders. (2) Enhance Mt. Rose's ability to provide a consistent and quality snow surface on key ski terrain throughout the season.

Although Mt. Rose is well known for its abundance of expert terrain, due to the topography of public and private lands that compose the existing ski area, it suffers from a lack of terrain suitable for low-level skiers and riders. As a result, Mt. Rose struggles to provide a full range of beginner, novice, and intermediate terrain that is necessary for a logical “learning progression,” which is critical for skiers and riders as they gain skills and confidence. Also, it is common for advanced intermediate and expert skiers/riders to descend through lower-level terrain on their way to the base area. This mixing of ability levels is intimidating for lower levels skiers and riders, and is inconsistent with the type of recreational offering that Mt. Rose strives to provide.

In addition, inefficiencies in Mt. Rose's snowmaking system prevent the resort from capitalizing on intermittent periods of cold temperatures within which snow can be most efficiently produced.

Proposed Action: The HTNF proposes to authorize a special use permit (SUP) boundary adjustment on NFS land to create the Atoma lift and trail “Pod” to the north of the Mt. Rose Highway. The proposed Atoma trail plan includes 11 defined trails, and takes advantage of both the location and topography of the area while strategically preserving large tree islands that would be appropriate for lower-level skiers and riders to navigate. No new roads are proposed; the design makes use of the existing road network (including the Old Mt. Rose Highway) by incorporating it into the trail plan. These existing roads will also facilitate construction and maintenance of the proposed lift and trail network. All proposed trails will be groomed on a rotating basis, as needed, to maintain a consistent snow surface. Glades (tree stands that have been strategically thinned, thereby increasing the spacing between individual trees, to accommodate skiing and riding) between formal trails will not be groomed.

The trail plan for the Atoma Pod includes approximately 23 acres of new trails. Approximately 49 acres of glades will be available between the defined trails. Specific portions of proposed trails have been identified for grading in order to improve the surface or gradients (totaling approximately 6.0 acres).

The existing Atoma building and associated parking lot, will be removed and the area re-contoured to natural grades. In conjunction with the proposed Atoma Pod a raised, vegetated buffer between the Mt. Rose Highway and new skiing terrain will be created. Terrain in the Atoma Pod is proposed to be served by a new fixed-grip quad chairlift with a capacity of between 1,800 and 2,200 people-per-hour. The 3,500-foot long lift will span the Mt. Rose Highway, with the bottom terminal located in a flat, open area at an elevation of approximately 7,970 feet on NFS land. The top terminal will be located on private land owned by Mt. Rose at an elevation of 8,395 feet. Adequate road access to the top and bottom terminal sites currently exists.

In order to connect the existing terrain network at Mt. Rose (private land) to the proposed Atoma Pod (NFS land), a skiway will be constructed. The skiway will begin at the top terminal of the Atoma chairlift and cross a proposed skier bridge over the Mt. Rose Highway, connecting to NFS land in the Atoma Pod. The skiway will be located on private land, and grading will be necessary to achieve/maintain appropriate grades for descending skiers and riders. The bridge will be constructed within the Nevada Department of Transportation highway right-of-way. This roughly 130-foot long skier bridge will provide access for skiers to enter the Atoma Pod and will be constructed to minimum of 25 feet wide to accommodate grooming.

Proposed ski trails in the Atoma Pod have been planned around the natural topography preserving/avoiding known resources of importance (e.g., wetlands, cultural resources, and healthy, large and/or important trees) to the extent possible. Trails will be constructed to variable widths—ranging from 40 to 70 feet. Site-specific prescriptions for the construction of each proposed trail in the Atoma Pod will be analyzed in detail in the draft EIS. For safety and operational reasons, standing dead/diseased timber will be removed throughout the Atoma area.

A new water impoundment is proposed adjacent to the skier's left edge of the upper Galena trail (near an existing potable water storage tank) at Mt. Rose. The site has relatively flat topography and is in close proximity to Mt. Rose's existing road network, snowmaking control building, and associated existing buried water lines. The impoundment will be located entirely on NFS land, as no comparably suitable location is available on private lands. The proposed water impoundment will store between 13 and 15 acre feet of water (approximately 4.2 and 4.9 million gallons), with a surface area of approximately 1.6 acres and a disturbance area of roughly 3.5 acres. Because of the porosity of soils present at Mt. Rose, the impoundment will be fitted with a geosynthetic liner to prevent seepage. Approximately 50,000 cubic yards of material will be excavated from construction of the impoundment.

New snowmaking coverage is proposed on five trails in the Atoma Pod. Water—originating from Mt. Rose's well on private land—will ultimately be stored in the proposed on-mountain impoundment. A water transmission line will be installed, across the Atoma skier bridge, and into the Atoma Pod. Except where wetlands have been identified, all snowmaking lines will be buried below the frost line, and related ground disturbance will be analyzed in the EIS.

Under the proposed action, dispersed (“backcountry”) recreational access to NFS land within and adjacent to the Atoma Pod will continue to be allowed throughout the winter and summer. The EIS will consider and analyze how to accommodate dispersed recreational access to NFS land, with consideration given to operational and public safety needs within a developed ski area.

The proposed action includes a non-significant Forest Plan amendment to prohibit future commercial development on lands acquired as a result of the 1994 Galena Resort Land Exchange. The non-significant Forest Plan amendment is proposed to clarify management direction in the Carson Front Management Area #2, Mount Rose Unit. The Atoma area (approximately 112 acres), as well as the 168 acres already included in the Mt. Rose Ski Tahoe SUP and designated as “The Chutes”, would be excluded from the Forest Plan amendment.

Lead and Cooperating Agencies: The Forest Service is the lead federal agency for the NEPA analysis process and preparation of the EIS. The Nevada Department of Transportation has been identified as a cooperating agency for this project.

Responsible Official: William A. Dunkelberger, Forest Supervisor, Humboldt-Toiyabe National Forest, 1200 Franklin Way, Sparks, NV 89431.

Nature of Decision To Be Made: Based on the analysis that will be documented in the forthcoming EIS, the responsible official will decide whether to amend the current special use permit to implement, in whole or in part, the proposed action or another alternative that may be developed by the Forest Service as a result of scoping.

Scoping Process: This notice of intent initiates the scoping process, which guides the development of the EIS. The Forest Service is soliciting comments from federal, state and local agencies and other individuals or organizations that may be interested in or affected by implementation of the proposed project.

It is important that reviewers provide their comments at such times and in such a manner that they are useful to the agency's preparation of the EIS. Therefore, comments should be provided prior to the close of the comment period and should clearly articulate the reviewer's concerns and contentions.

Comments received in response to this solicitation, including names and addresses of those who comment, will be part of the public record for this proposed action. Comments submitted anonymously will be accepted and considered, however.

Additional information on the proposed action will be available at two public open houses which will be held from 4:00 to 6:00 p.m. on (1) June 18, 2013, at the Winters Creek Lodge, 21333 State Route 878, Reno, NV 89511 and (2) June 19, 2013, at the Humboldt-Toiyabe National Forest Supervisors Office, 1200 Franklin Way, Sparks, NV 89431.

Dated: May 28, 2013.
William A. Dunkelberger,
Forest Supervisor.

[FR Doc. 2013-13010 Filed 5-31-13; 8:45 am]

BILLING CODE 3410-11-P